DEPARTMENT OF ENERGY

Federal Energy Regulatory Commission

Combined Notice of Filings #1

Take notice that the Commission received the following exempt wholesale generator filings:

Docket Numbers: EG14-80-000.

Applicants: Mountain Creek Power, LLC.

Description: Mountain Creek Power, LLC's Notice of Self-Certification as an Exempt Wholesale Generator.

Filed Date: 8/11/14.

Accession Number: 20140811-5088.

Comments Due: 5 p.m. ET 9/2/14.

Docket Numbers: EG14-81-000.

Applicants: LaPorte Power, LLC.

Description: LaPorte Power, LLC's Notice of Self-Certification as an Exempt Wholesale Generator.

Filed Date: 8/11/14.

Accession Number: 20140811-5089.

Comments Due: 5 p.m. ET 9/2/14.

Docket Numbers: EG14-82-000.

Applicants: Handley Power, LLC.

Description: Handley Power LLC's Notice of Certification as an Exempt Wholesale Generator.

Filed Date: 8/11/14.

Accession Number: 20140811-5090.

Comments Due: 5 p.m. ET 9/2/14.

Take notice that the Commission received the following electric rate filings:

Docket Numbers: ER10-2881-015; ER10-2882-015; ER10-2883-015; ER10-2884-015; ER10-2885-015; ER10-2641-015; ER10-2663-015; ER10-2886-015; ER13-1101-010; ER13-1541-009; ER14-787-003.

Applicants: Alabama Power Company, Southern Power Company, Mississippi Power Company, Georgia Power Company, Gulf Power Company, Oleander Power Project, Limited Partnership, Southern Company-Florida LLC, Southern Turner Cimarron I, LLC, Spectrum Nevada Solar, LLC, Campo Verde Solar, LLC, Macho Springs Solar, LLC.

Description: Notification of Non-Material of Change in Status of Alabama Power Company, et al.

Filed Date: 8/11/14.

Accession Number: 20140811-5038.

Comments Due: 5 p.m. ET 9/2/14.

Docket Numbers: ER13-1194-000; ER12-1303-000.

Applicants: Entergy Services, Inc.

Description: Refund Report to be effective N/A.

Filed Date: 8/11/14.

Accession Number: 20140811-5054.

Comments Due: 5 p.m. ET 9/2/14.

Docket Numbers: ER13-1623-000.

Applicants: Entergy Services, Inc.

Description: Refund Report to be effective N/A.

Filed Date: 8/7/14.

Accession Number: 20140807-5067.

Comments Due: 5 p.m. ET 8/28/14.

Docket Numbers: ER13-2468-002.

Applicants: Midcontinent Independent System Operator, Inc.

Description: 2014-08-08_CMMPA Amended Compliance Filing—Att O to be effective 1/1/2014.

Filed Date: 8/7/14.

Accession Number: 20140807-5092.

Comments Due: 5 p.m. ET 8/28/14.

Docket Numbers: ER14-1348-003; ER14-1349-003.

Applicants: Dow Chemical Company, Union Carbide Corporation, The Dow Chemical Company.

Description: Compliance Filing of The Dow Chemical Company and Union Carbide Corporation.

Filed Date: 8/8/14.

Accession Number: 20140808-5044.

Comments Due: 5 p.m. ET 8/29/14.

Docket Numbers: ER14-2439-001.

Applicants: Midcontinent Independent System Operator, Inc.

Description: 2014-08-08_SA 2677 GRE-Pleasant Valley Wind GIA Amendment (J278) to be effective 7/17/2014.

Filed Date: 8/8/14.

Accession Number: 20140808-5085.

Comments Due: 5 p.m. ET 8/29/14.

Docket Numbers: ER14-2574-000.

Applicants: California Independent System Operator Corporation.

Description: 2014-08-07_Supplement_FlexibleRACriteriaRequirements to be effective N/A.

Filed Date: 8/7/14.

Accession Number: 20140807-5141.

Comments Due: 5 p.m. ET 8/28/14.

Docket Numbers: ER14-2611-000.

Applicants: Public Service Company of Colorado.

Description: 2014-8-7_PSCo WAPA-Rev Meter-320-0.1.0 to be effective 10/6/2014.

Filed Date: 8/7/14.

Accession Number: 20140807-5037.

Comments Due: 5 p.m. ET 8/28/14.

Docket Numbers: ER14-2612-000.

Applicants: Ohio Power Company, AEP Ohio Transmission Company, Inc., PJM Interconnection, L.L.C.

Description: AEP submits 43rd Revised Service Agreement No. 1336 to be effective 7/10/2014.

Filed Date: 8/7/14.

Accession Number: 20140807-5045.

Comments Due: 5 p.m. ET 8/28/14.

Docket Numbers: ER14-2613-000.

Applicants: Public Service Company of Colorado.

Description: 2014-8-7_PSCo CFA_87-LAO-285_350-0.1.0 to be effective 10/6/2014.

Filed Date: 8/7/14.

Accession Number: 20140807-5046.

Comments Due: 5 p.m. ET 8/28/14.

Docket Numbers: ER14-2614-000.

Applicants: PJM Interconnection, L.L.C.

Description: Queue Position X4-044, Original Service Agreement No. 3901 to be effective 7/8/2014.

Filed Date: 8/7/14.

Accession Number: 20140807-5064.

Comments Due: 5 p.m. ET 8/28/14.

Docket Numbers: ER14-2615-000.

Applicants: Midcontinent Independent System Operator, Inc.

Description: 2014-08-07_SA 6503 Gaylord SSR Termination Consumers to be effective 10/1/2014.

Filed Date: 8/7/14.

Accession Number: 20140807-5088.

Comments Due: 5 p.m. ET 8/28/14.

Docket Numbers: ER14-2616-000.

Applicants: Midcontinent Independent System Operator, Inc.

Description: 2014-08-07_Cancel Schedule 43D Gaylord to be effective 10/1/2014.

Filed Date: 8/7/14.

Accession Number: 20140807-5089.

Comments Due: 5 p.m. ET 8/28/14.

Docket Numbers: ER14-2617-000.

Applicants: Midcontinent Independent System Operator, Inc.

Description: 2014-08-07_SA 6504 Straits SSR Consumers Energy Termination to be effective 10/1/2014.

Filed Date: 8/7/14.

Accession Number: 20140807-5090.

Comments Due: 5 p.m. ET 8/28/14.

Docket Numbers: ER14-2618-000

Applicants: Midcontinent Independent System Operator, Inc.

Description: 2014-08-07_Cancel Schedule 43E Straits to be effective 10/1/2014.

Filed Date: 8/7/14.

Accession Number: 20140807-5091.

Comments Due: 5 p.m. ET 8/28/14.

Docket Numbers: ER14-2619-000.

Applicants: Illinois Power Marketing Company.

Description: Revised Unexecuted Amended and Restated System Support Resources Agreement to be effective 1/1/2014.

Filed Date: 8/7/14.

Accession Number: 20140807-5126.

Comments Due: 5 p.m. ET 8/28/14.

Docket Numbers: ER14-2620-000.

Applicants: Niagara Mohawk Power Corporation, New York Independent System Operator, Inc.

Description: Cancellation of NiMo Beacon EPC Agreement No. 1630 to be effective 8/9/2014.

Filed Date: 8/8/14.

Accession Number: 20140808-5024.

Comments Due: 5 p.m. ET 8/29/14.

Docket Numbers: ER14-2621-000.

Applicants: Golden Spread Electric Cooperative, Inc.

Description: OATT Order No. 792 Compliance Filing to be effective 8/3/2014.

Filed Date: 8/8/14.

Accession Number: 20140808-5066.

Comments Due: 5 p.m. ET 8/29/14.

Docket Numbers: ER14-2622-000.

Applicants: Consumers Energy Company.

Description: Request for Limited Waiver of the MISO Open Access Transmission, Energy and Operating Reserve Markets Tariff by Consumers Energy Company.

Filed Date: 8/7/14.

Accession Number: 20140807-5167.

Comments Due: 5 p.m. ET 8/28/14.

Docket Numbers: ER14-2623-000.

Applicants: New York Independent System Operator, Inc.

Description: NYISO 205 filing tariff revision to eliminate NFTS provisions to be effective 10/9/2014.

Filed Date: 8/8/14.

Accession Number: 20140808-5096.

Comments Due: 5 p.m. ET 8/29/14.

Docket Numbers: ER14-2624-000.

Applicants: Southern California Edison Company.

Description: Amended and Restated SGIA & Amended and Restated Serv Agmt Lucerne Valley Solar to be effective 8/12/2014.

Filed Date: 8/11/14.

Accession Number: 20140811-5002.

Comments Due: 5 p.m. ET 9/2/14.

Docket Numbers: ER14-2625-000.

Applicants: AEP Texas North Company.

Description: TNC-Barilla Solar First Amend & Restated Interconnection Agr. to be effective 7/23/2014.

Filed Date: 8/11/14.

Accession Number: 20140811-5059.

Comments Due: 5 p.m. ET 9/2/14.

Docket Numbers: ER14-2626-000.

Applicants: Southern California Edison Company.

Description: SCE Amended WDAT GIP to be effective 10/1/2014.

Filed Date: 8/11/14.

Accession Number: 20140811-5143.

Comments Due: 5 p.m. ET 9/2/14.

Take notice that the Commission received the following electric securities filings:

Docket Numbers: ES14-48-000.

Applicants: South Carolina Electric & Gas Company, South Carolina Generating Company, Inc.

Description: Application for Authorization under Federal Power Act Section 204 for South Carolina Electric & Gas Company and South Carolina Generating Company, Inc.

Filed Date: 8/8/14.

Accession Number: 20140808-5060.

Comments Due: 5 p.m. ET 8/29/14.

Take notice that the Commission received the following qualifying facility filings:

Docket Numbers: QF14-640-000.

Applicants: Lent, Robert H.

Description: Form 556 of Robert H. Lent.

Filed Date: 7/3/14.

Accession Number: 20140703-5158.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2014.
Nathaniel J. Davis, Sr.,
Deputy Secretary.

[FR Doc. 2014-19655 Filed 8-19-14; 8:45 am]

BILLING CODE 6717-01-P